DEPARTMENT OF THE INTERIOR

Fish and Wildlife Service

Aquatic Nuisance Species Task Force Ruffe Control Committee Meeting

AGENCY: Fish and Wildlife Service, Interior.

ACTION: Notice of meeting.

SUMMARY: This notice announces a meeting of the Aquatic Nuisance Species (ANS) Task Force Ruffe Control Committee. The meeting topics are identified in the SUPPLEMENTARY INFORMATION.

DATES: The Ruffe Control Committee will meet from 1 p.m. to 5 p.m., Tuesday, October 16, 2001, and from 8 a.m. to noon, Wednesday, October 17, 2001.

ADDRESSES: The Ruffe Control Committee Meeting will be held in the Days Inn, 2403 U.S. Highway 41, Marquette, Michigan.

FOR FURTHER INFORMATION CONTACT: Sharon Gross, Executive Secretary, Aquatic Nuisance Species Task Force, at 703-358-2308 or by e-mail at sharon_gross@fws.gov or Mark Dryer, Ruffe Control Committee Chair, at 715-682-6185 ext. 201.

SUPPLEMENTARY INFORMATION: Pursuant to section 10(a)(2) of the Federal Advisory Committee Act (5 U.S.C. App. I), this notice announces a meeting of the Aquatic Nuisance Species Task Force Ruffe Control Committee. The ANS Task Force was established by the Nonindigenous Aquatic Nuisance Prevention and Control Act of 1990.

Topics to be covered during the Ruffe Control Committee meeting include: an update of the current status of ruffe based on recent field investigations; a discussion to implement the Ruffe Control Program; and a review of actions for the upcoming year.

Minutes of the meeting will be maintained by the Executive Secretary, Aquatic Nuisance Species Task Force, Suite 810, 4401 North Fairfax Drive, Arlington, Virginia 22203-1622, and will be available for public inspection during regular business hours, Monday through Friday.

Dated: September 14, 2001.
Everett Wilson,
Acting Co-Chair, Aquatic Nuisance Species Task Force, Assistant Director—Fisheries and Habitat Restoration.

[FR Doc. 01-24056 Filed 9-25-01; 8:45 am]

BILLING CODE 4310-55-M